DEPARTMENT OF ENERGY

Federal Energy Regulatory Commission

Combined Notice of Filings

February 11, 2009.

Take notice that the Commission has received the following Natural Gas Pipeline Rate and Refund Report filings:

Docket Numbers: RP03-36-042

Applicants: Dauphin Island Gathering Partners

Description: Dauphin Island Gathering Partners submits Seventh Revised Sheet 10A to its FERC Gas Tariff, First Revised Volume 1.

Filed Date: 02/04/2009

Accession Number: 20090205-0491

Comment Date: 5 p.m. Eastern Time on Tuesday, February 17, 2009

Docket Numbers: RP05-157-015

Applicants: Saltville Gas Storage Company L.L.C.

Description: Saltville Gas Storage Company LLC submits Original Sheet 25 et al. to FERC Gas Tariff, Original Volume 1, to be effective 4/1/09.

Filed Date: 02/05/2009

Accession Number: 20090206-0228

Comment Date: 5 p.m. Eastern Time on Tuesday, February 17, 2009

Docket Numbers: RP07-513-003

Applicants: Sea Robin Pipeline Company, LLC

Description: Sea Robin Pipeline Co, LLC submits its Refund Report.

Filed Date: 02/09/2009

Accession Number: 20090210-0265

Comment Date: 5 p.m. Eastern Time on Monday, February 23, 2009

Docket Numbers: RP08-25-001

Applicants: Southern LNG, Inc.

Description: Supplemental Information of Southern LNG, Inc.

Filed Date: 01/21/2009

Accession Number: 20090121-5243

Comment Date: 5 p.m. Eastern Time on Tuesday, February 17, 2009

Docket Numbers: RP09-185-001

Applicants: MoGas Pipeline LLC

Description: MoGas Pipeline LLC submits Second Revised Sheet 58 et al. to FERC Gas Tariff, First Revised Volume 1, to be effective 1/26/09.

Filed Date: 02/06/2009

Accession Number: 20090209-0175

Comment Date: 5 p.m. Eastern Time on Wednesday, February 18, 2009

Docket Numbers: RP09-351-000

Applicants: Egan Hub Storage, LLC

Description: Egan Hub Storage, LLC submits Fourth Revised Sheet 160 et al. to FERC Gas Tariff, First Revised Volume 1, to be effective 3/11/09.

Filed Date: 02/05/2009

Accession Number: 20090206-0237

Comment Date: 5 p.m. Eastern Time on Tuesday, February 17, 2009

Docket Numbers: RP09-352-000

Applicants: Midwestern Gas Transmission Company

Description: Midwestern Gas Transmission Company submits Sixth Revised Sheet 1 et al. to FERC Gas Tariff, Third Revised Volume 1, to be effective 3/6/09.

Filed Date: 02/06/2009

Accession Number: 20090209-0174

Comment Date: 5 p.m. Eastern Time on Wednesday, February 18, 2009

Docket Numbers: RP09-353-000

Applicants: Cheniere Creole Trail Pipeline, L.P.

Description: Cheniere Creole Trail Pipeline, LP submits First Revised Sheet 14 et al. FERC Gas Tariff, Original Volume 1 in compliance with FERC Order 712.

Filed Date: 02/06/2009

Accession Number: 20090209-0173

Comment Date: 5 p.m. Eastern Time on Wednesday, February 18, 2009

Docket Numbers: RP09-354-000

Applicants: Midwestern Gas Transmission Company

Description: Midwestern Gas Transmission Co submits Seventeenth Revised Sheet No. 237 et al. to FERC Gas, Tariff Third Revised Volume No. 1.

Filed Date: 02/09/2009

Accession Number: 20090210-0264

Comment Date: 5 p.m. Eastern Time on Monday, February 23, 2009

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-3350 Filed 2-13-09; 8:45 am]

BILLING CODE 6717-01-P